DEPARTMENT OF HOUSING AND URBAN DEVELOPMENT

[Docket No. FR-4565-N-22]

Notice of Proposed Information Collection: Comment Request; Multifamily Coinsurance Claims Package, Section 223(f)

AGENCY: Office of the Assistant Secretary for Housing, HUD.

ACTION: Notice.

SUMMARY: The proposed information collection requirement described below will be submitted to the Office of Management and Budget (OMB) for review, as required by the Paperwork Reduction Act. The Department is soliciting comments on the subject proposal.

DATES: Comments due date: November 13, 2000.

ADDRESSES: Interested persons are invited to submit comments regarding this proposal. Comments should refer to the proposal by name and/or OMB Control Number and should be sent to Wayne Eddins, Reports Management Officer, Department of Housing and Urban Development, 451 7th Street, SW., L'Enfant Plaza Building, Room 8100, Washington, DC 20410.

FOR FURTHER INFORMATION CONTACT: Steven A. Trojan, Systems Accountant, Office of Financial Services, 451 7th Street, SW., Washington, DC 20410, telephone (202) 401-2168, extension 2823 (this is not a toll free number) for copies of the proposed forms and other available information.

SUPPLEMENTARY INFORMATION: The Department is submitting the proposed information collection to OMB for review, as required by the Paperwork Reduction Act of 1995 (44 U.S.C. Chapter 35, as amended).

This notice is soliciting comments from members of the public and affected agencies concerning the proposed collection of information to (1) Evaluate whether the proposed collection of information is necessary for the proper performance of the functions of the agency, including whether the information will have practical utility: (2) Evaluate the accuracy of the agency's estimate of the burden of the proposed collection of information: (3) Enhance the quality, utility, and clarity of the information be collected; and (4) Minimize the burden of the collection of information on those are to respond; including the use of appropriate automated collection techniques or other forms of information technology, e.g., permitting electronic submission of responses.

This Notice also lists the following information:

Title of Proposal: Multifamily Coinsurance Claims Package, Section 223(f).

OMB Control Number: 2505-0420.

Description of the need for the information and proposed use: Statute 12 U.S.C. 1715z-9 and Title II, Section 244 of the National Housing Act authorizes the Secretary of HUD to insure eligible multifamily mortgages against default. In the event of a default, the mortgagee is entitled to receive benefits under the coinsurance coverage prescribed in the provisions of 24 CFR Sections 255, 251.3, and 251.6. To receive these benefits the mortgagee must prepare and submit to HUD the appropriate forms. In addition, to comply with statutory requirements, the information collected is used by HUD to determine the claim amount due the mortgagee.

Agency form number: HUD-27008, 27009B, 27009D, 27009F.

Estimation of the total numbers of hours needed to prepare the information collection including number of respondents, frequency of response, and hours of response: The estimated number of respondents is 12, frequency of responses is one per claim submission, the total annual burden hours requested is 12.

Status of the proposed information collection: Reinstatement, with change, of a previously approved collection.

Authority: The Paperwork Reduction Act of 1995, 44 U.S.C. Chapter 35, as amended.

Dated: September 7, 2000.
William C. Apgar,
Assistant Secretary for Housing-Federal Housing Commissioner.

[FR Doc. 00-23522 Filed 9-12-00; 8:45 am]

BILLING CODE 4210-27-M